DEPARTMENT OF HEALTH AND HUMAN SERVICES

National Institutes of Health

Prospective Grant of Exclusive License: Targeted Gene Expression for the Treatment of Cancer, Bone Metastasis and Diabetes

AGENCY: National Institutes of Health, Public Health Service, DHHS.

ACTION: Notice.

SUMMARY: This is notice, in accordance with 35 U.S.C. 209 (c)(1) and 37 CFR 404.7 (a)(1)(i), that the National Institutes of Health (NIH), Department of Health and Human Services, is contemplating the grant of an exclusive license worldwide to practice the invention embodied in the Provisional Patent Application No. 60/024,213, filed 8/15/96, converted to PCT (PCT/US97/15270) filed on 8/14/97 entitled “Spatially and Temporal Control of Gene Expression Protein Promoter in Combination with Local Heat” to Gene Control S.A., a non-U.S. corporation located at 9, rue Boissonnas CH 1211 Geneva 24, Switzerland. The patent rights of this invention have been assigned to the United States of America. The proposed field of use may be limited to targeted gene expression, for the treatment of cancer, bone metastasis and diabetes.

DATES: Only written comments and/or applications for a license, received by the NIH Office of Technology Transfer on or before June 24, 2002, will be considered.

ADDRESSES: Requests for a copy of the patent application, inquiries, comments and other materials relating to the contemplated license should be directed to: Wendy R. Sanhai, Ph.D., Technology Licensing Specialist, Office of Technology Transfer, National Institutes of Health, 6011 Executive Boulevard, Suite 325, Rockville, MD 20852-3821; telephone: (301) 496-7736 ext. 244; facsimile: (301) 402-0220; e-mail: sanhaiw@od.nih.gov. A signed Confidential Disclosure Agreement will be required to receive copies of the patent application.

SUPPLEMENTARY INFORMATION: This invention relates to the spatial and temporal control of exogenous gene expression in genetically engineered cells and organisms. In particular, it covers the use of heat inducible promoters such as the promoter of heat shock genes to control the expression of exogenous genes. It further relates to the use of focused ultrasound to heat cells that contain therapeutic genes under the control of heat shock promoter, thereby inducing the expression of therapeutic genes.

The prospective exclusive license territory will be worldwide and will be royalty-bearing. Said license may be granted within sixty (60) days from the date of this published notice unless the NIH receives written evidence and argument establishing that granting this license is inconsistent with the terms and conditions of 35 U.S.C. 209(c)(1) and 37 CFR 404.7(a)(1)(i).

Properly filed competing applications for a license filed in response to this notice will be treated as objections to the contemplated license. Comments and objections submitted in response to this notice will not be made available for public inspection, and, to the extent permitted by law, will not be released under the Freedom of Information Act, 5 U.S.C. 552.

Dated: April 17, 2002.
Jack Spiegel,
Director, Division of Technology Development and Transfer, Office of Technology Transfer.

[FR Doc. 02-10117 Filed 4-24-02; 8:45 am]

BILLING CODE 4140-01-P